DEPARTMENT OF AGRICULTURE

Rural Business-Cooperative Service

[DOCKET #: RBS-23-BSINESS-0010]

Notice of Solicitation of Applications for Inviting Applications for the Rural Economic Development Loan and Grant Programs for Fiscal Year 2024; Correction

AGENCY: Rural Business-Cooperative Service, USDA.

ACTION: Notice, correction.

SUMMARY: The Rural Business-Cooperative Service (RBCS or Agency), an agency of the United States Department of Agriculture (USDA), published a Notice of Solicitation of Applications in the Federal Register (FR) on September 14, 2023, entitled Notice of Solicitation of Applications for Inviting Applications for the Rural Economic Development Loan and Grant Programs for Fiscal Year 2024, to announce that it was accepting applications for Fiscal Year (FY) 24 and the availability of an estimated $90,000,000 in available funding. In addition, the Notice described requirements that are determined at the time a funding announcement is published as outlined in the program regulation. This notice will amend Section E.2.(c) of the notice to add a third option to request Priority Points under the Addressing Climate Change and Environmental Justice category. RD will work with any applicants that have previously submitted an application for FY 2024 funding to ensure they have the opportunity to utilize this option.

DATES: The deadlines for completed applications to be received in the USDA Rural Development (RD) State Office for quarterly funding competitions is no later than 4:30 p.m. (local time) on: Second Quarte—December 31, 2023, Third Quarter—March 31, 2024, and Fourth Quarter—June 30, 2024.

FOR FURTHER INFORMATION CONTACT: Cindy Mason, Program Management Division, Business Programs, Rural Business-Cooperative Service, U.S. Department of Agriculture, 1400 Independence Avenue SW, MS 3226, Room 5160-S, Washington, DC 20250-3226, cindy.mason@usda.gov, or call (202) 720-1400. For further information on this Notice, please contact the USDA RD State Office in the State in which the applicant's headquarters is located. A list of RD State Office contacts is provided at the following link: https://www.rd.usda.gov/about-rd/state-offices.

SUPPLEMENTARY INFORMATION:

Correction

In FR Doc. 2023-19925 of September 14, 2023 (88 FR 63057), on page 63060, in column 1, under Section E.2.(c) the details on how to receive priority points under reducing climate pollution and increasing resilience to the impacts of climate change through economic support to rural communities is being expanded. There will now be a third way to receive priority points. The paragraph and following bullets are being replaced to now read:

“(3) Reducing climate pollution and increasing resilience to the impacts of climate change through economic support to rural communities. Using the Disadvantaged Community and Energy Community Look-Up Map (available at https://www.rd.usda.gov/priority-points), applicants may receive priority in three ways:

• If the project is located in or serves a Disadvantaged Community as defined by the Climate and Economic Justice Screening Tool (CEJST), from the White House Council on Environmental Quality (CEQ);

• If the project is located in or serves an Energy Community as defined by the Inflation Reduction Act (IRA); and

• If applicants can demonstrate through a written narrative how the proposed climate-impact projects will improve the livelihoods of community residents and meet pollution mitigation or clean energy goals.

See the website, https://www.rd.usda.gov/priority-points, for options.”

Karama Neal,
Administrator, Rural Business-Cooperative Service, USDA Rural Development.

[FR Doc. 2023-24314 Filed 11-2-23; 8:45 am]

BILLING CODE 3410-XY-P